DEPARTMENT OF ENERGY

Federal Energy Regulatory Commission

[Docket No. CP07-3-000]

Natural Gas Pipeline Company of America; Notice of Application

October 24, 2006.

Take notice that on October 10, 2006, Natural Gas Pipeline Company of America (Natural), 747 East 22nd Street, Lombard, Illinois 60148, filed an application under sections 7(c) and 7(b) of the Natural Gas Act seeking authority to: (i) Construct and operate 4.43 miles of 36-inch diameter pipe that will become part of Natural's Louisiana Line No. 2 Cameron Parish, Louisiana; (ii) replace three 12-inch meter runs and meters at the Sabine Henry Hub Plant in Vermilion Parish, Louisiana with three 8-inch turbine meters; (iii) install one 10,000 hp electric compressor unit and appurtenant equipment at Compressor Station (CS) 302 in Montgomery County, Texas; (iv) add one Solar Taurus 60 gas turbine compressor unit and appurtenant equipment, including expanded platform space, and re-wheel of one existing 4,200 hp gas compressor unit at CS 342 in Cameron Parish, Louisiana; (v) replace three gas fired compressor units totaling 10,300 hp with one 11,000 hp electric compressor unit at CS 343 in Liberty County, Texas; and (vi) add one Solar Centaur 50 gas turbine compressor unit and appurtenant equipment and re-wheel all of the existing compressor units at CS 346 in Cameron Parish, Louisiana.

Natural is also requesting authorization to abandon three 12-inch orifice meter tubes and meters at the Sabine Henry Hub Plant in Vermilion Parish, Louisiana and four compressor units totaling 10,300 hp at CS 343 in Liberty County, Texas, all as more fully set forth in the application which is on file with the Commission and open for public inspection. These filings are available for review at the Commission in the Public Reference Room or may be viewed on the Commission's Web site at http://www.ferc.gov using the “eLibrary” link. Enter the docket number excluding the last three digits in the docket number field to access the document. For assistance, please contact FERC Online Support at FERCOnlineSupport@ferc.gov or toll free at (866) 208-3676, or for TTY, contact (202) 502-8659.

Any questions regarding this Application should be directed to Bruce H. Newsome, Vice President of Certificates and Rates, Natural Gas Pipeline Company of America, 747 East 22nd Street, Lombard, Illinois 60148-5072, telephone: (630) 691-3526.

The proposed project will enable Natural to expand the capacity of its Louisiana Line system, which stretches from Compressor Station 302 in Montgomery County, Texas to the Henry Hub in Vermilion Parish, Louisiana by approximately 200,000 dekatherms per day. The estimated cost of the project is approximately $66 million and Natural requests the Commission issue an order by April, 2007.

There are two ways to become involved in the Commission's review of this project. First, any person wishing to obtain legal status by becoming a party to the proceedings for this project should, on or before the below listed comment date, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

Motions to intervene, protests and comments may be filed electronically via the Internet in lieu of paper; see 18 CFR 385.2001(a)(1) (iii) and the instructions on the Commission's Web site under the “e-Filing” link. The Commission strongly encourages electronic filings.

Comment Date: 5 p.m. Eastern Time on November 14, 2006.

Magalie R. Salas,
Secretary.

[FR Doc. E6-18130 Filed 10-27-06; 8:45 am]

BILLING CODE 6717-01-P